DEPARTMENT OF ENERGY

Federal Energy Regulatory Commission

Combined Notice of Filings #1

Take notice that the Commission received the following electric corporate filings:

Docket Numbers: EC15-27-000.

Applicants: Banco Santander, S.A., Tonopah Solar I, LLC.

Description: Application for Authorization for Disposition of Jurisdictional Facilities, Request Confidential Treatment, Waivers, and Expedited Consideration of Banco Santander, S.A., et al.

Filed Date: 11/7/14.

Accession Number: 20141107-5258.

Comments Due: 5 p.m. ET 11/28/14.

Docket Numbers: EC15-28-000.

Applicants: Spring Canyon Energy II LLC, Spring Canyon Energy III LLC, Spring Canyon Interconnection LLC.

Description: Application for Authorization Under Section 203 of the Federal Power Act and Request for Waivers and Expedited Action of Spring Canyon Energy II LLC, et al.

Filed Date: 11/10/14.

Accession Number: 20141110-5133.

Comments Due: 5 p.m. ET 12/1/14.

Take notice that the Commission received the following electric rate filings:

Docket Numbers: ER10-2124-009; ER10-2125-010; ER10-2127-009; ER10-2128-009; ER10-2129-007; ER10-2130-009; ER10-2131-010; ER10-2132-009; ER10-2133-010; ER10-2134-007; ER10-2135-007; ER10-2136-007; ER10-2137-010; ER10-2138-010; ER10-2139-010; ER10-2140-010; ER10-2141-010; ER10-2764-009; ER11-3872-011; ER11-4044-010; ER11-4046-009; ER12-161-009; ER12-164-008; ER12-645-010; ER14-25-006; ER14-2187-004; ER14-2798-002; ER14-2799-002; ER14-2820-002; ER14-2821-002.

Applicants: Spring Canyon Energy LLC, Spring Canyon Energy II LLC, Spring Canyon Energy II LLC, Judith Gap Energy LLC, Invenergy TN LLC, Grays Harbor Energy LLC, Wolverine Creek Energy LLC, Forward Energy LLC, Grand Ridge Energy LLC, Grand Ridge Energy II LLC, Grand Ridge Energy III LLC, Grand Ridge Energy IV LLC, Grand Ridge Energy V LLC, Willow Creek Energy LLC, Sheldon Energy LLC, Hardee Power Partners Limited, Spindle Hill Energy LLC, Invenergy Cannon Falls LLC, Beech Ridge Energy LLC, Vantage Wind Energy LLC, Stony Creek Energy LLC, Gratiot County Wind LLC, Gratiot County Wind II LLC, California Ridge Wind Energy LLC, Bishop Hill Energy LLC, Bishop Hill Energy III LLC, Prairie Breeze Wind Energy LLC, Grand Ridge Energy Storage LLC, Beech Ridge Energy II LLC, Beech Ridge Energy Storage LLC.

Description: Notification of Change in Facts of Spring Canyon Energy LLC, et al.

Filed Date: 11/7/14.

Accession Number: 20141107-5255.

Comments Due: 5 p.m. ET 11/28/14.

Docket Numbers: ER14-1578-004.

Applicants: PacifiCorp.

Description: Compliance filing per 35: OATT EIM Compliance Filing Effective Date to be effective 11/1/2014.

Filed Date: 11/10/14.

Accession Number: 20141110-5151.

Comments Due: 5 p.m. ET 12/1/14.

Docket Numbers: ER14-2626-001.

Applicants: Southern California Edison Company.

Description: Compliance filing per 35: SCE Second Compliance Filing to Order No. 792 to be effective 10/1/2014.

Filed Date: 11/10/14.

Accession Number: 20141110-5158.

Comments Due: 5 p.m. ET 12/1/14.

Docket Numbers: ER14-2872-001.

Applicants: Southern California Edison Company.

Description: Tariff Amendment per 35.17(b): SCE's Response to Deficiency re Service Agmt City of Industry—Grand Crossing to be effective 9/16/2014.

Filed Date: 11/10/14.

Accession Number: 20141110-5155.

Comments Due: 5 p.m. ET 12/1/14.

Docket Numbers: ER15-366-000.

Applicants: Pacific Gas and Electric Company.

Description: Tariff Withdrawal per 35.15: Notice of Termination of KMPUD IA and TFA Service Agreement 230 to be effective 10/31/2014.

Filed Date: 11/10/14.

Accession Number: 20141110-5001.

Comments Due: 5 p.m. ET 12/1/14.

Docket Numbers: ER15-367-000.

Applicants: Pacific Gas and Electric Company.

Description: § 205(d) rate filing per 35.13(a)(2)(iii): KMPUD IA and TFA Replacement Filing—TO Service Agreement No. 276 to be effective 11/1/2014.

Filed Date: 11/10/14.

Accession Number: 20141110-5002.

Comments Due: 5 p.m. ET 12/1/14.

Docket Numbers: ER15-368-000.

Applicants: Midcontinent Independent System Operator, Inc.

Description: § 205(d) rate filing per 35.13(a)(2)(iii): 2014-11-10_SA 6502 Illinois Power-MISO SSR Unanticipated Repairs Amendment to be effective 11/1/2014.

Filed Date: 11/10/14.

Accession Number: 20141110-5144.

Comments Due: 5 p.m. ET 12/1/14.

Docket Numbers: ER15-369-000.

Applicants: ISO New England Inc., New England Power Pool Participants Committee.

Description: § 205(d) rate filing per 35.13(a)(2)(iii): Admin. Rev. to FCM Rules—Part 1 of 2 to be effective 1/30/2015.

Filed Date: 11/10/14.

Accession Number: 20141110-5145.

Comments Due: 5 p.m. ET 12/1/14.

Docket Numbers: ER15-369-001.

Applicants: ISO New England Inc., New England Power Pool Participants Committee.

Description: Tariff Amendment per 35.17(b): Admin. Rev. to FCM Rules—Part 2 of 2 to be effective 6/1/2018.

Filed Date: 11/10/14.

Accession Number: 20141110-5150.

Comments Due: 5 p.m. ET 12/1/14.

Docket Numbers: ER15-370-000.

Applicants: Ameren Illinois Company.

Description: § 205(d) rate filing per 35.13(a)(2)(iii): Letter Agreement Between Prairie Power, Inc. and Eastern Illini Electric Coop. to be effective 10/9/2014.

Filed Date: 11/10/14.

Accession Number: 20141110-5148.

Comments Due: 5 p.m. ET 12/1/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 10, 2014.
Nathaniel J. Davis, Sr.,
Deputy Secretary.

[FR Doc. 2014-27258 Filed 11-17-14; 8:45 am]

BILLING CODE 6717-01-P